GENERAL SERVICES ADMINISTRATION

[Notice AD-2019-01; Docket No. 2019-0002; Sequence No. 29]

Notice of 2020 Presidential Transition Directory

AGENCY: Presidential Transition; General Services Administration (GSA).

ACTION: Notice of availability of the GSA 2020 Presidential Transition Directory.

SUMMARY: The Presidential Transition Directory website is designed to help candidates in the 2020 Presidential election get quick and easy access to key resources about the federal government structure and key policies related to Presidential Transition. The creation of the Presidential Transition Directory is mandated by the Presidential Transition Act of 1963, as amended.

DATES: Applicable: November 13, 2019.

FOR FURTHER INFORMATION CONTACT: The GSA Presidential Transition Team at presidentialtransition2020@gsa.gov.

SUPPLEMENTARY INFORMATION: The Presidential Transition Directory (presidentialtransition.gsa.gov) website is designed to help candidates in the 2020 Presidential election get quick and easy access to key resources about the federal government structure and key policies related to Presidential Transition.

The creation of the Presidential Transition Directory is mandated by the Presidential Transition Act of 1963, as amended. Connecting resources from the Office of Personnel Management, National Archives and Records Administration, U.S. Office of Government Ethics and others, the site will also help future political appointees better understand key aspects of their roles and some of the key policies and aspects of federal service.

The site will be continuously updated as new information becomes available to help ensure candidates and their staffs have access to the best information possible.

Dated: October 31, 2019.
Mary D. Gibert,
Director, Presidential Transition, General Services Administration.

[FR Doc. 2019-24596 Filed 11-12-19; 8:45 am]

BILLING CODE 6820-AZ-P